DEPARTMENT OF DEFENSE

Department of the Navy

Notice of Public Hearings for the Draft Environmental Impact Statement/Overseas Environmental Impact Statement for the Northwest Training Range Complex

AGENCY: Department of the Navy, DoD.

ACTION: Notice.

SUMMARY: Pursuant to section 102(2)(c) of the National Environmental Policy Act (NEPA), the Council on Environmental Quality Regulations for implementing the procedural provisions of NEPA (Title 40 Code of Federal Regulations Parts 1500-1508), and Executive Order 12114, Environmental Effects Abroad of Major Federal Actions, the Department of the Navy (Navy) has prepared and filed with the U.S. Environmental Protection Agency a Draft Environmental Impact Statement/Overseas Environmental Impact Statement (EIS/OEIS) for public release on December 29, 2008. The National Marine Fisheries Service (NMFS) is a Cooperating Agency for the EIS/OEIS.

The Draft EIS/OEIS evaluates the potential environmental effects of maintaining Fleet readiness through the use of the Northwest Training Range Complex (NWTRC) to support current, emerging, and future training activities. The proposed action serves to implement range enhancements to upgrade and modernize range capabilities within the NWTRC, thereby ensuring critical Fleet requirements are met. A Notice of Intent for this Draft EIS/OEIS was published in the Federal Register on July 31, 2007 (72 FR 41712).

The Navy will conduct five public hearings to receive oral and written comments on the Draft EIS/OEIS. Federal agencies, State agencies, and local agencies and interested individuals are invited to be present or represented at the public hearings. This notice announces the dates and locations of the public hearings for this Draft EIS/OEIS.

An open house session will precede the scheduled public hearing at each of the locations listed below, and will allow individuals to review the information presented in the Draft EIS/OEIS. Navy representatives will be available during the open house sessions to clarify information related to the Draft EIS/OEIS.

DATES AND ADDRESSES: Five public scoping meetings will be held in Washington, Oregon, and California to receive oral and written comments on the Draft EIS/OEIS. All meetings will start with an open house session from 5 p.m. to 7 p.m., followed by a presentation and formal public comment period from 7 p.m. to 8:30 p.m. Public hearings will be held on the following dates and at the following locations:

1. Tuesday, January 27, 2009, at Oak Harbor School District Office, ASC Board Room, 350 S. Oak Harbor Street, Oak Harbor, Washington;

2. Wednesday, January 28, 2009, at Pacific Beach Fire Hall, 4586 State Route 109, Pacific Beach, Washington;

3. Thursday, January 29, 2009, at Grays Harbor College Cafeteria, 1620 Edward P. Smith Drive, Aberdeen, Washington;

4. Friday, January 30, 2009, at Hatfield Marine Science Center, 2030 SE Marine Science Drive, Newport, Oregon;

5. Monday, February 2, 2009, at Eureka Women's Club, 1531 J Street, Eureka, California.

FOR FURTHER INFORMATION CONTACT: Mrs. Kimberly Kler, Naval Facilities Engineering Command Northwest, Attention: NWTRC EIS/OEIS, 1101 Tautog Circle, Suite 203, Silverdale, Washington 98315-1101; or http://www.NWTRangeComplexEIS.com.

SUPPLEMENTARY INFORMATION: The NWTRC consists of airspace, surface operating areas, and land range facilities in the Pacific Northwest. Components of the NWTRC encompass 122,400 nm² of surface/subsurface ocean operating area, 46,048 nm² of special use airspace, and 875 acres of land. The EIS/OEIS Study Area lies within the NWTRC, and encompasses surface and subsurface ocean operating areas, land training areas, and special use airspace in Washington, and over-ocean special use airspace offshore of Washington, Oregon, and northern California. These ranges and operating areas are used to conduct training involving military hardware, personnel, tactics, munitions, explosives, and electronic combat systems. The NWTRC serves as a backyard range for those units homeported in the Pacific Northwest area including those aviation, surface ship, submarine, and Explosive Ordnance Disposal units homeported at Naval Air Station Whidbey Island, Naval Station Everett, Naval Base Kitsap—Bremerton, Naval Base Kitsap—Bangor, and Puget Sound Naval Shipyard.

The purpose of the Proposed Action is to: (1) Achieve and maintain Fleet readiness using the NWTRC to support and conduct current, emerging, and future training activities and research, development, test, and evaluation (RDT&E) events (primarily unmanned aerial vehicles); (2) expand warfare missions supported by the NWTRC consistent with the requirements of the Fleet Response Training Plan (FRTP) and other transformation initiatives; and (3) upgrade and modernize existing range capabilities to enhance and sustain Navy training and RDT&E.

The need for the Proposed Action is to: (1) Maintain current levels of military readiness by training in the NWTRC; (2) accommodate future increases in operational training tempo in the NWTRC and support the rapid deployment of naval units or strike groups; (3) achieve and sustain readiness of ships, submarines, and aviation squadrons using the NWTRC so that they can quickly surge significant combat power in the event of a national crisis or contingency operation, consistent with the FRTP; (4) support the acquisition and implementation of advanced military technology into the Fleet; (5) identify shortfalls in range capabilities, particularly training infrastructure and instrumentation, and address through range investments and enhancements; and (6) maintain the long-term viability of the NWTRC while protecting human health and the environment and enhancing the quality and communication capability and safety of the range complex.

The No Action Alternative is the continuation of training and RDT&E. Alternative 1 consists of an increase in the number of training activities from baseline levels and force structure changes associated with the introduction of new weapon systems, vessels, and aircraft into the Fleet. Alternative 2, the Preferred Alternative, consists of all elements of Alternative 1. In addition, Alternative 2 includes an increase in the number of training activities over Alternative 1 levels and implementation of range enhancements.

The Draft EIS addresses potential environmental impacts on multiple resources, including but not limited to: Air quality; water resources; airborne acoustic environment; biological resources, marine and terrestrial; cultural resources; socioeconomics; and public health and safety.

No significant impacts are identified for any resource area in any geographic location within the NWTRC Study Area that cannot be mitigated, with the exception of exposure of marine mammals to underwater sound. The Navy has requested from NMFS a Letter of Authorization (LOA) in accordance with the Marine Mammal Protection Act to authorize the incidental take of marine mammals that may result from the implementation of the activities analyzed in the NWTRC Draft EIS/OEIS. In compliance with the Magnuson-Stevens Fisheries Conservation Management Act, the Navy is in consultation with NMFS regarding potential impacts to Essential Fish Habitat. In accordance with section 7 of the Endangered Species Act, the Navy is consulting with NMFS and U.S. Fish and Wildlife Service (USFWS) for potential impacts to federally listed species. The Navy is coordinating with the Washington Department of Ecology, the Oregon Department of Land Conservation and Development, and the California Coastal Commission for a Coastal Consistency Determination under the Coastal Zone Management Act for each respective state. Navy analysis has indicated that under the Clean Air Act requirements, no significant impacts would occur to the regional air quality, and under the Clean Water Act there would be no significant impacts to water quality. National Historic Preservation Act analysis indicated that no significant impacts to cultural resources would occur if the Proposed Action or alternatives were implemented. Implementation of the Proposed Action or alternatives would not disturb, adversely affect, or result in any takes of bald eagles, nor result in a significant adverse effect on the population of a migratory bird species.

The decision to be made by the Navy is to determine which of the alternatives analyzed in the EIS/OEIS best meet the operational needs of the Navy given that all reasonably foreseeable environmental impacts have been considered.

The Draft EIS/OEIS was distributed to Federal, State, and local agencies, elected officials, and other interested individuals and organizations. The public comment period will end on February 11, 2009. Copies of the Draft EIS/OEIS are available for public review at the following libraries: Humboldt County Library, 1313 Third Street, Eureka, CA; Jefferson County Rural Library, 620 Cedar Avenue, Port Hadlock, WA; Kitsap Regional Library, 1301 Sylvan Way, Bremerton, WA; Lincoln City Public Library, 801 SW Highway 101, Lincoln City, OR; Oak Harbor Public Library, 1000 SE Regatta Drive, Oak Harbor, WA; Port Townsend Public Library, 1220 Lawrence St., Port Townsend, WA; and Timberland Regional Library, 420 Seventh Street, Hoquiam, WA.

The Northwest Training Range Complex Draft EIS/OEIS is also available for electronic public viewing at: http://www.NWTRangeComplexEIS.com. A paper copy of the Executive Summary or a single CD with the Draft EIS/OEIS will be made available upon written request by contacting Naval Facilities Engineering Command Northwest, Attention: Mrs. Kimberly Kler—NWTRC EIS/OEIS, 1101 Tautog Circle, Suite 203, Silverdale, WA 98315-1101.

Federal, State, and local agencies, and interested parties are invited to be present or represented at the public hearing. Written comments can also be submitted during the open house sessions preceding the public hearings.

Oral statements will be heard and transcribed by a stenographer; however, to ensure the accuracy of the record, all statements should be submitted in writing. All statements, both oral and written, will become part of the public record on the Draft EIS/OEIS and will be responded to in the Final EIS/OEIS. Equal weight will be given to both oral and written statements. In the interest of available time, and to ensure all who wish to give an oral statement have the opportunity to do so, each speaker's comments will be limited to four (4) minutes. If a long statement is to be presented, it should be summarized at the public hearing with the full text submitted either in writing at the hearing, or mailed to Naval Facilities Engineering Command Northwest, Attention: Mrs. Kimberly Kler—NWTRC EIS/OEIS, 1101 Tautog Circle, Suite 203, Silverdale, WA 98315-1101. In addition, comments may be submitted online at http://www.NWTRangeComplexEIS.com during the comment period. All written comments must be postmarked by February 11, 2009, to ensure they become part of the official record. All comments will be addressed in the Final EIS/OEIS.

Dated: December 19, 2008.
T.M. Cruz,
Lieutenant Commander, Judge Advocate General's Corps, U.S. Navy, Federal Register Liaison Officer.

[FR Doc. E8-30936 Filed 12-29-08; 8:45 am]

BILLING CODE 3810-FF-P